DEPARTMENT OF ENERGY

National Nuclear Security Administration

Notice of Intent to Prepare a Supplemental Programmatic Environmental Impact Statement on Stockpile Stewardship and Management for a Modern Pit Facility

AGENCY: Department of Energy, National Nuclear Security Administration.

ACTION: Notice of intent.

SUMMARY: The Department of Energy's (DOE) National Nuclear Security Administration (NNSA) is responsible for the safety and reliability of the U.S. nuclear weapons stockpile, including protection of production readiness to maintain that stockpile. Since 1989, the DOE has been without the capability to produce plutonium pits (the portion of a nuclear weapon which generates the fission energy to drive modern thermonuclear weapons). The NNSA, the Department of Defense (DOD), and Congress have highlighted the lack of long-term pit production capability as a national security issue requiring timely resolution. While an interim capability is currently being established at the Los Alamos National Laboratory (LANL), classified analyses indicate that this capability will not suffice to maintain, long-term, the nuclear deterrent that is a cornerstone of U.S. national security policy. Pursuant to the National Environmental Policy Act (NEPA) of 1969, as amended (42 U.S.C. 4321 et seq.), and the DOE Regulations Implementing NEPA (10 CFR Part 1021), the NNSA is announcing its intent to prepare a Supplement to the Programmatic Environmental Impact Statement (EIS) on Stockpile Stewardship and Management (SSM) for a Modern Pit Facility (MPF) in order to decide: (1) whether to proceed with the MPF; and (2) if so, where to locate the MPF. This NOI also sets forth the dates, times, and locations for public scoping meetings on the Supplement to the Programmatic EIS on SSM for a Modern Pit Facility.

DATES: NNSA is inviting comments related to its intention to prepare a Supplement to the Programmatic EIS on SSM for a Modern Pit Facility. Comments should be submitted within November 22, 2002. Comments submitted during the 60-day comment period following publication of this NOI will assist the NNSA in developing the Supplement to the Programmatic EIS on SSM for a Modern Pit Facility. Public scoping meetings to discuss issues and receive comments on the scope of the Supplement to the Programmatic EIS on SSM for a Modern Pit Facility will be held in the vicinity of sites that may be affected by the proposed action, as well as in Washington, DC. The public scoping meetings will provide the public with an opportunity to present comments, ask questions, and discuss concerns with NNSA officials regarding the Supplement to the Programmatic EIS on SSM for a Modern Pit Facility. The locations, dates, and times for these public scoping meetings are as follows:

Pantex—October 8, 2002 , 7 p.m.-10 p.m., College Union Building, Oak Room, Amarillo College, Washington Street Campus, 24th and Jackson Streets, Amarillo, TX 79178, (806) 371-5100

Carlsbad, NM—October 10, 2002, 7 p.m.-10 p.m., U.S. Department of Energy, Carlsbad Area Office, 4021 National Parks Highway, Carlsbad, NM 88220, (505) 234-7227

Washington, DC—October 15, 2002, 2 p.m.-5 p.m., U.S. Department of Energy, 1000 Independence Avenue, SW., Room 1E-245, Washington, DC 20585, (202) 586-0821

Nevada Test Site—October 17, 2002, 7 p.m.-10 p.m., U.S. Department of Energy, Nevada Operations Office, Auditorium, 232 Energy Way, Las Vegas, NV 89030, (702) 295-3521

Los Alamos National Laboratory—October 24, 2002, 7 p.m.-10 p.m., Duane W. Smith Auditorium, 1400 Diamond Drive, Los Alamos, NM 87544, (505) 663-2510

Savannah River Site—October 29, 2002, 7 p.m.-10 p.m., North Augusta Community Center, 495 Brookside Avenue, North Augusta, SC 29841, (803) 441-4290

The NNSA will publish additional notices on the dates, times, and locations of the scoping meetings in local newspapers in advance of the scheduled meetings. Any necessary changes will be announced in the local media. Any agency, state, pueblo, tribe, or unit of local government that desires to be designated a cooperating agency should contact Mr. Jay Rose at the address listed below by October 15, 2002.

ADDRESSES: General questions concerning this Notice of Intent for the Supplement to the Programmatic EIS on SSM for a Modern Pit Facility can be asked by calling 1-800-832-0885, ext. 65484, or by writing to: Mr. Jay Rose, Supplement to the Programmatic EIS on SSM for a Modern Pit Facility Document Manager, NA-53, Forrestal Building, U.S. Department of Energy/NNSA, 1000 Independence Avenue, SW., Washington, D.C. 20585. Comments can be submitted to Mr. Rose at the address above; or faxed to: 1-202-586-5324; or e-mailed to James.Rose@nnsa.doe.gov. Please mark envelopes, faxes, and E-mail: “Supplement to the Programmatic EIS on SSM for a Modern Pit Facility Comments.”

FOR FURTHER INFORMATION CONTACT: For general information on the NNSA NEPA process, please contact: Mr. James J. Mangeno, NNSA NEPA Compliance Officer, NA-3.6, Forrestal Building, U.S. Department of Energy/NNSA, 1000 Independence Avenue, SW., Washington, D.C. 20585; or telephone 1-800-832-0885, ext. 6-8395. For general information on the DOE NEPA process, please contact: Ms. Carol M. Borgstrom, Director, Office of NEPA Policy and Compliance, EH-42, Forrestal Building, U.S. Department of Energy, 1000 Independence Avenue, SW., Washington, DC 20585, telephone 202-586-4600, or leave a message at 1-800-472-2756.

SUPPLEMENTARY INFORMATION: Plutonium pits are essential components of nuclear weapons. Prior to the shutdown of its production activities in 1989, plutonium pits for the nuclear weapons stockpile were manufactured at the DOE Rocky Flats Plant in Colorado. No stockpile-certified pits have been produced by this country since that shutdown. During the mid-1990s, the DOE conducted a comprehensive analysis of the capability and capacity needs for the entire Nuclear Weapons Complex and evaluated alternatives for maintaining the Nation's nuclear stockpile in the Programmatic Environmental Impact Statement for Stockpile Stewardship and Management (SSM PEIS, DOE/EIS-0236). Issued in September 1996, the SSM PEIS looked extensively at pit manufacturing capability and capacity needs, and evaluated reasonable alternatives for re-establishing interim pit production capability on a small scale. A large pit production capacity—in line with the capacity planned for other manufacturing functions—was not evaluated in the PEIS “because of the small current demand for the fabrication of replacement pits, and the significant, but currently undefined, time period before additional capacity may be needed.” In the SSM PEIS Record of Decision (ROD) (61 FR 68014, December 26, 1996), the Secretary of Energy decided to re-establish an interim pit fabrication capability, with a small capacity, at LANL. That decision limited pit fabrication to a facility “sized to meet programmatic requirements over the next ten or more years.” In the ROD, DOE committed to “performing development and demonstration work at its operating plutonium facilities over the next several years to study alternative facility concepts for larger capacity.”

Subsequent to the SSM PEIS ROD, a number of citizen groups filed suit challenging the adequacy of the SSM PEIS. In August 1998, the SSM PEIS litigation was resolved. As a result of that litigation, DOE agreed to entry of a court order that required, “[p]rior to taking any action that would commit DOE resources to detailed engineering design, testing, procurement, or installment of pit production capability for a capacity in excess of the level that has been analyzed in the SSM PEIS [50 pits per year under routine conditions, 80 pits per year under multiple-shift operations], DOE shall prepare and circulate a Supplemental PEIS, in accordance with DOE NEPA Regulation 10 CFR 1021.314, analyzing the reasonably foreseeable environmental impacts of and alternatives to operating such an enhanced capacity, and shall issue a Record of Decision based thereon.” This Supplement to the SSM PEIS is being prepared in part to satisfy that obligation.

Following the SSM PEIS, in January 1999, the Department prepared the LANL Site-Wide EIS (SWEIS) (DOE/EIS-0238), which evaluated site-specific alternatives for implementing pit production at LANL. Consistent with the SSM PEIS ROD, the LANL SWEIS evaluated alternatives that would implement pit production with a capacity up to 50 pits per year under single-shift operations and 80 pits per year using multiple shifts. In the ROD for the LANL SWEIS (64 FR 50797, September 20, 1999), DOE decided to produce up to 20 pits per year at LANL, and deferred any decision to expand pit manufacturing beyond that level.

Consistent with the 1996 SSM PEIS ROD and the 1999 LANL SWEIS ROD, NNSA has been re-establishing a small pit manufacturing capability at LANL. The establishment of the interim pit production capacity is expected to be completed in 2007. However, classified analyses indicate that the capability being established at LANL will not support either the projected capacity requirements (number of pits to be produced over a period of time), or the agility (ability to rapidly change from production of one pit type to another, ability to simultaneously produce multiple pit types, or the flexibility to produce pits of a new design in a timely manner) necessary for long-term support of the stockpile. In particular, any systemic problems that might be identified in an existing pit type or class of pits (particularly any aging phenomenon) could not be adequately addressed today, nor could it be with the capability being established at LANL. Although no such problems have been identified, the potential for such problems increases as pits age. NNSA's inability to respond to such issues is a matter of national security concern. NNSA is responsible for ensuring that appropriate pit production capacity and agility are available when needed, and this Supplement to the SSM PEIS is being undertaken to assist NNSA in discharging this responsibility.

NEPA Strategy and EIS Alternatives

Currently, the NNSA envisions the Supplement to the Programmatic EIS on SSM for a Modern Pit Facility as a “programmatic document” that will support two decisions: (1) Whether to proceed with the MPF; and (2) if so, where to locate the MPF. A tiered, project-specific EIS is expected to be prepared after the Supplement to the Programmatic EIS on SSM for a Modern Pit Facility if the Secretary decides to proceed with such a facility. That tiered EIS, which would utilize detailed design information to evaluate site-specific alternatives at any site selected as a potential location for a MPF, would ultimately support a decision for construction and operation of the MPF. As described below, the NNSA has developed preliminary alternatives for the Supplement to the Programmatic EIS on SSM for a Modern Pit Facility.

Alternatives: The NNSA has prepared, and will continue to prepare mission, requirements, and planning documents required to support an NNSA decision on whether to proceed with the MPF, and has conducted a site screening analysis to assure that potential sites meet program requirements. Initially, all existing, major DOE sites were considered to serve as potential host location for the MPF. The site screening analysis considered the following criteria: population encroachment, mission compatibility, margin for safety/security, synergy with existing/future plutonium operations, minimizing transportation of plutonium, NNSA presence at the site, and infrastructure. The first two criteria were deemed to be “exclusionary” criteria; that is, a site either passed or failed on each of these two criteria. The sites that passed the exclusionary criteria were then scored against all criteria. Based upon results from the site screening analysis, the following sites were determined to be reasonable alternatives for the MPF: (1) Los Alamos National Laboratory at Los Alamos, New Mexico; (2) Nevada Test Site near Las Vegas, Nevada ; (3) Pantex Plant at Amarillo, Texas; (4) Savannah River Site at Aiken, South Carolina; and (5) the Waste Isolation Pilot Plant at Carlsbad, NM. The Supplement to the Programmatic EIS on SSM for a Modern Pit Facility will also evaluate the no-action alternative of maintaining the current plutonium pit capabilities at LANL, and the reasonableness of upgrading the existing facilities at LANL to increase pit production capacity. Additionally, the Supplement to the Programmatic EIS on SSM for a Modern Pit Facility will evaluate a range of pit production capacities consistent with national security requirements.

Identification of Environmental and Other Issues

The environmental impacts of constructing and operating the MPF, including the impacts that might occur at each potential site, will be addressed in the Supplement to the Programmatic EIS on SSM for a Modern Pit Facility. These impacts will be presented along with environmental baseline information to enable the reader to discern the differences between alternatives. The NNSA has identified the following issues for analysis in the Supplement to the Programmatic EIS on SSM for a Modern Pit Facility. Additional issues may be identified as a result of the scoping process.

1. Public and Worker Safety, Health Risk Assessment: Radiological and non-radiological impacts, including projected effects on workers and the public from construction, normal operations and accident conditions, and decommissioning and decontamination activities associated with constructing and operating the MPF.

2. Impacts from releases to air, water, and soil associated with constructing and operating the MPF.

3. Impacts to plants, animals, and habitats, including threatened or endangered species and their habitats, associated with constructing and operating the MPF.

4. The consumption of natural resources and energy associated with constructing and operating the MPF.

5. Socioeconomic impacts to affected communities from construction and operation of the MPF.

6. Environmental justice: Disproportionately high and adverse human health or environmental effects on minority and low-income populations associated with constructing and operating the MPF.

7. Impacts to cultural resources such as historic, archaeological, scientific, or culturally important sites associated with constructing and operating the MPF.

8. Impacts associated with transportation and storage of nuclear materials.

9. Status of compliance with all applicable Federal, state, and local statutes and regulations; required Federal, state, and tribe environmental consultations and notifications; and DOE Orders on waste management, waste minimization, and environmental protection.

10. Cumulative impacts from the proposed action and other past, present, and reasonably foreseeable actions at the alternative sites.

11. Potential irreversible and irretrievable commitments of resources associated with constructing and operating the MPF.

12. Pollution prevention and waste management practices, including characterization, storage, treatment and disposal of wastes associated with constructing and operating the MPF. NNSA anticipates that certain classified information will be utilized in preparing the Supplement to the Programmatic EIS on SSM for a Modern Pit Facility and considered by the NNSA in deciding whether to construct and operate MPF, and if so, where the facility would be located. Accordingly, the Supplement to the Programmatic EIS on SSM for a Modern Pit Facility will likely contain a classified appendix. To the extent allowable, the Supplement to the Programmatic EIS on SSM for a Modern Pit Facility will summarize this information in an unclassified manner.

Supplement to the Programmatic EIS on SSM for a Modern Pit Facility Schedule

The proposed Supplement to the Programmatic EIS on SSM for a Modern Pit Facility schedule is as follows:

Notice of Intent: September 2002.

Public Scoping Meetings: October 2002.

Publish Draft EIS: May 2003.

Draft EIS Public Hearings: June-July 2003.

Publish Final EIS: March 2004.

Record of Decision: April 2004.

Public Scoping Process

To assist in defining the appropriate scope of the Supplement to the Programmatic EIS on SSM for a Modern Pit Facility and to identify significant environmental issues to be addressed, NNSA representatives will conduct public scoping meetings at the dates, times, and locations described above under DATES. At these meetings, the NNSA will present a short summary of the project, indicate the alternatives to be considered, and present the proposed scope of the Supplement to the Programmatic EIS on SSM for a Modern Pit Facility. Following the initial presentation at each site, NNSA representatives will answer questions and accept comments, and the public will have a chance to offer their comments on the proposal, alternatives to be studied and the scope of the Supplement to the Programmatic EIS on SSM for a Modern Pit Facility. Copies of handouts from the meetings will be available to those unable to attend, by contacting the NNSA as described above under ADDRESSES.

Issued in Washington, DC, this 16th day of September 2002.
Spencer Abraham,
Secretary of Energy.

[FR Doc. 02-24076 Filed 9-20-02; 8:45 am]

BILLING CODE 6450-01-P